DEPARTMENT OF COMMERCE

National Oceanic and Atmospheric Administration

[0648-XR060]

Endangered and Threatened Species; Take of Anadromous Fish

AGENCY: National Marine Fisheries Service (NMFS), National Oceanic and Atmospheric Administration (NOAA), Commerce.

ACTION: Notice of receipt of fourteen permit applications for enhancement and monitoring purposes, including an associated Template Safe Harbor Agreement and site plans developed for the proposed enrolled properties.

SUMMARY: We, NMFS, announce receipt of 14 (Permit Numbers 23271, 23276, 23278, 23279, 23280, 23284, 23285, 23286, 23287, 23288, 23289, 23290, 23291, 23434) applications for enhancement of survival permits under the Endangered Species Act (ESA) of 1973, as amended (16 U.S.C. 1531 et seq.), and proposed entry into an associated Template Safe Harbor Agreement (Agreement) between the applicants and NMFS. The proposed enhancement of survival permits and Agreement are intended to promote the survival and recovery of the Southern Oregon/Northern California Coast (SONCC) coho salmon (Oncorhynchus kisutch) Evolutionary Significant Unit (ESU), which is listed as threatened under the ESA.

DATES: Comments or requests for a public hearing on the actions proposed in the applications must be received at the appropriate address or fax number (see ADDRESSES) no later than 5 p.m. Pacific Standard Time on November 14, 2019.

ADDRESSES: Written comments on the applications should be submitted to the California Coastal Office, NMFS, 1655 Heindon Road, Arcata, CA 95521 707-822-7201. Comments may also be submitted via fax to 707-822-4840, or by email to Shasta.sha@noaa.gov (include the permit numbers in the subject line of the fax or email).

FOR FURTHER INFORMATION CONTACT: Jim Simondet, Arcata, CA (ph.: 707-822-7201; Fax: 707-825-4840; email: Shasta.sha@noaa.gov.) Permit application are available upon request through the contact information above, or online at https://apps.nmfs.noaa.gov.

SUPPLEMENTARY INFORMATION:

Species Covered in this Notice

The following ESA-listed species is covered in this notice:

• Threatened coho salmon (Oncorhynchus kisutch): Southern Oregon/Northern California Coast (SONCC) Evolutionary Significant Unit (ESU)

Authority

Enhancement permits are issued in accordance with Section 10(a)(1)(A) of the ESA (16 U.S.C. 1539(a)(1)(A)) and regulations governing listed fish and wildlife permits (50 CFR part 222, subpart C). NMFS issues permits based on findings that such permits: (1) Are applied for in good faith; (2) if granted and exercised, would not operate to the disadvantage of the listed species that are the subject of the permit; (3) are consistent with the purposes and policies of Section 2 of the ESA; (4) would further a bona fide and necessary or desirable scientific purpose or enhance the propagation or survival of the endangered species, taking into account the benefits anticipated to be derived on behalf of the endangered species; and additional issuance criteria (as listed at 50 CFR 222.308(c)(5-12)). The authority to take listed species is subject to conditions set forth in the permits.

Anyone requesting a hearing on an application listed in this notice should set out the specific reasons why a hearing on that application would be appropriate (see ADDRESSES). Such hearings are held at the discretion of the Assistant Administrator for Fisheries, NMFS.

Permit Applications Received

Fourteen applicants are requesting individual enhancement of survival permits and entry of an associated Agreement that was developed by NMFS, California Department of Fish and Wildlife (CDFW), the Shasta Watershed Conservation Group (SWCG) and the Applicants. The 14 Applicants (Table 1) each developed site plans for their respective properties (i.e., Enrolled Properties) that describe management activities that will be implemented, including beneficial activities for SONCC coho salmon (the covered species). The site plans, Agreement, and enhancement of survival permits are expected to promote the recovery of the covered species on non-Federal property within the Shasta River in the Agreement Area (see Figure 1 in the Agreement). The Shasta River is a tributary to the Klamath River and is in Siskiyou County, California. The proposed duration of the Agreement and the associated enhancement of survival permits is 20 years. The proposed enhancement of survival permits would authorize the incidental taking of SONCC coho salmon that may be associated with covered activities, including beneficial management activities, routine ranch management activities, and the potential future return of the enrolled properties to baseline conditions at the end of the Agreement, as defined in the Agreement. The site plans and Agreement specify the beneficial management activities to be carried out on the enrolled properties and a schedule for implementing those activities. The site plan and Agreement are expected to promote the recovery of SONCC coho salmon within the Shasta River within the Agreement Area.

Applicant | Permit No. | Enrolled property
Outpost North Annex | 23271 | Belcampo-North Annex Property, 8030 Siskiyou Blvd, Grenada, CA 96038.
California Department of Fish and Wildlife | 23276 | Big Springs Ranch Wildlife Area, 41°35′44.76 N, 122°27′31.52 W.
Cardoza Ranch | 23278 | Cardoza Ranch, 3710 East Louie Road, Montague, CA 96064.
Edson Foulke Ditch Company | 23279 | Edson-Foulke Point of Diversion, 41°43′52.6 N, 122°47′46.8 W.
Grenada Irrigation District | 23280 | Grenada Irrigation District, Point of Diversion 41°38′11.56″ N, 122°29′22.88 W.
2019 Lowell L. Novy Revocable Trust | 23284 | Grenada-Novy Ranch, Gazelle—19931 Old Hwy 99 S, Gazelle, CA 96034, Grenada—2426 County Hwy A-12, Grenada, CA 96034.
Hidden Valley Ranch | 23285 | Hidden Valley Ranch, 13521 Big Springs Road, Montague, CA 96064.
Emmerson Investments, Inc | 23286 | Hole-in-the-Ground Ranch, 11825 Big Springs Road, Montague, CA 96064.
Montague Water Conservation District | 23287 | Montague Water Conservation District, N. 52°, 43′ E., approximately 2601 feet from SW corner of Section 25, T43N, R5W, MDB&M, being within the NE¼ of SW¼ of said Section 25
NB Ranches, Inc | 23434 | Nicoletti Ranch, 1824 DeSouza Lane, Montague, CA and 2238 DeSouza Lane, Montague, CA.
Outpost Mole Richardson | 23288 | Parks Creek Ranch, 25801 Old Hwy 99, Weed, CA 96094.
Rice Livestock Company | 23289 | Rice Livestock Company, 1730 County Highway A12, Montague, CA.
Emmerson Investments, Inc | 23290 | Seldom Seen Ranch, 41°54′63.2 N, 122°38′35.7 W.
Emmerson Investments, Inc | 23291 | Shasta Springs Ranch, 21305 Slough Road, Weed, CA 96094.

Under U.S. Fish and Wildlife Service and NMFS' joint Safe Harbor Policy (64 FR 32717, June 17, 1999), Safe Harbor Agreements provide incentives to property owners to restore, enhance, or maintain habitats and/or populations of listed species that result in a net conservation benefit to these species. Under the policy, landowners are provided certainty relative to future property-use restrictions, even if their conservation efforts attract listed species onto enrolled properties or increase the numbers or distribution of listed species already present. Subject to specifications in the relevant documents, these regulatory assurances allow the landowners to alter or modify enrolled property, even if such alteration or modification results in the incidental take of a listed species to such an extent that it returns the species back to the originally agreed upon baseline conditions. NMFS reviewed each present baseline and elevated baseline determination in each site plan. The site plans and Agreement also contain a monitoring component that requires the Applicants to ensure compliance with the terms and conditions, and that the specified baseline levels of habitat for the covered species is maintained on the enrolled property. Results of the monitoring efforts will be provided to NMFS by the Applicants in an annual report for the duration of the 20-year permit term.

Upon approval of the Agreement and site plans, and consistent with the Safe Harbor Policy, NMFS will issue enhancement of survival permits to the Applicants. The enhancement of survival permits will authorize the Applicants to take SONCC coho salmon incidental to the implementation of the covered activities specified in the site plans and Agreement, incidental to other lawful uses of the enrolled property, and to return to present baseline and elevated baseline conditions, if desired, at the end of the site plans and Agreement. In addition to meeting other criteria, actions to be performed under the enhancement of survival permit must not jeopardize the existence of federally listed species.

National Environmental Policy Act

Issuing an ESA section 10(a)(1)(A) permit constitutes a Federal action requiring NMFS to comply with the National Environmental Policy Act (NEPA; 42 U.S.C. 4321 et seq.) as implemented by 40 CFR parts 1500-1508 and NOAA Administrative Order 216-6, Environmental Review Procedures for Implementing the National Policy Act (1999). NMFS will evaluate the application(s) and determine the level of NEPA analysis needed for this action.

Public Comments Solicited

NMFS invites the public to comment, including any written data, views, or arguments, on the permit applications during a 30-day public comment period beginning on the date of this notice. This notice is provided pursuant to Section 10(c) of the ESA (16 U.S.C. 1539(c)), 50 CFR 222.303. All comments and materials received, including names and addresses, will become part of the administrative record and may be released to the public. We provide this notice in order to allow the public, agencies, or other organizations to review and comment on these documents.

Next Steps

NMFS will evaluate the applications, associated documents, and comments submitted to determine whether the applications meet the requirements of Section 10(a)(1)(A) of the ESA and Federal regulations. The final permit decisions will not be made until after the end of the 30-day public comment period and after NMFS has fully considered all relevant comments received. NMFS will also meet other legal requirements prior to taking final action, including preparation of a biological opinion. NMFS will publish notice of its final action in the Federal Register.

Dated: October 9, 2019.
Angela Somma,
Chief, Endangered Species Division, Office of Protected Resources, National Marine Fisheries Service.

[FR Doc. 2019-22428 Filed 10-11-19; 8:45 am]

BILLING CODE 3510-22-P